DEPARTMENT OF ENERGY

Federal Energy Regulatory Commission

[Docket No. EL05-20-001, et al.]

Buckeye Power, Inc., et al.; Electric Rate and Corporate Filings

December 27, 2004.

The following filings have been made with the Commission. The filings are listed in ascending order within each docket classification.

1. Buckeye Power, Inc.

[Docket No. EL05-20-001]

Take notice that on December 20, 2004, Buckeye Power, Inc. (Buckeye) filed additional information regarding its November 3, 2004, filing in Docket No. EL05-20-000, in response to the Commission's November 30, 2004, deficiency letter.

Buckeye states that a copy of the filing has been served on PJM.

Comment Date: 5 p.m. Eastern Time on January 3, 2005.

2. California Independent System Operator Corporation

[Docket No. ER98-3760-011]

Take notice that on December 20, 2004, the California Independent System Operator Corporation (ISO) submitted a filing in compliance with the order issued in Docket No. ER98-3760-000 on November 19, 2004, 109 FERC ¶ 61,183.

The ISO states that this filing has been served upon all parties on the official service list for the captioned docket. In addition, the ISO further states that it has posted this filing on the ISO home page.

Comment Date: 5 p.m. Eastern Time on January 10, 2005.

3. Intercom Energy, Inc.

[Docket No. ER02-267-002]

Take notice that on December 17, 2004, Intercom Energy, Inc. submitted for filing with the Federal Energy Regulatory Commission its triennial updated market analysis in accordance with the Commission's rules and regulations.

Comment Date: 5 p.m. Eastern Time on January 7, 2005.

4. Kansas City Power & Light Company

[Docket No. ER04-982-001]

Take notice that on December 17, 2004, Kansas City Power & Light Company (KCPL) submitted a compliance filing pursuant to the Commission's Letter Order issued August 5, 2004, in Docket No. ER04-982-000.

KCPL states that copies of the filing were served upon The Empire District Electric Company as well as the Missouri Public Service Commission and the State Corporation Commission of Kansas.

Comment Date: 5 p.m. Eastern Time on January 7, 2005.

5. Illinois Power Company

[Docket No. ER05-173-000]

Take notice that on December 22, 2004, Illinois Power Company tendered for filing a Notice of Withdrawal of its November 2, 2004, filing of a “Tariff for Limited Sales of Excess Energy at Market-Based Rates” in the above referenced proceeding.

Comment Date: 5 p.m. Eastern Time on January 12, 2005.

6. PSEG Power New York Inc.

[Docket No. ER05-323-001]

Take notice that on December 17, 2004, PSEG Power New York Inc. (PSEG Power NY), filed an amendment of its December 10, 2004, filing in Docket No. ER05-323-000.

PSEG Power NY states it has served a copy of this supplemental filing on the New York Public Service Commission and the parties to the Commission's official service list for this docket.

Comment Date: 5 p.m. Eastern Time on January 7, 2005.

7. PSEG Fossil LLC, PSEG Nuclear LLC

[Docket No. ER05-324-001]

Take notice that on December 17, 2004, PSEG Fossil LLC (PSEG Fossil) and PSEG Nuclear LLC (PSEG Nuclear) (collectively, the Applicants), filed a supplement to correct their December 10, 2004 filing in Docket No. ER05-324-000.

Applicants state they have served a copy of this supplemental filing on the New Jersey Board of Public Utilities, the Pennsylvania Public Utilities Commission and the parties to the Commission's official service list for this docket.

Comment Date: 5 p.m. Eastern Time on January 7, 2005.

8. Southern California Edison Company

[Docket No. ER05-352-000]

Take notice that on December 17, 2004, Southern California Edison Company (SCE) submitted for filing a Letter Agreement which amends the Interconnection Facilities Agreement (IFA) between Eurus Energy America Corporation (Eurus Energy) and SCE, Service Agreement No. 25 under SCE's Transmission Owner Tariff FERC Electric Tariff, Second Revised Volume No. 6.

SCE states that copies of the filing were served upon the Public Utilities Commission of the State of California and Oasis Power Partners, LLC.

Comment Date: 5 p.m. Eastern Time on January 7, 2005.

9. Pacific Gas and Electric Company

[Docket No. ER05-353-000]

Take notice that on December 17, 2004, Pacific Gas and Electric Company (PG&E) tendered for filing an annual rate update, including rate schedule sheet revisions, to become effective January 1, 2005, to its Reliability Must-Run Service Agreements (RMR Agreements) with the California Independent System Operator Corporation (ISO) for Helms Power Plant (PG&E First Revised Rate Schedule FERC No. 207), San Joaquin Power Plant (PG&E First Revised Rate Schedule FERC No. 211) and Kings River Watershed (PG&E Rate Schedule FERC No. 226).

PG&E states that copies of the filing have been served upon the ISO, the California Electricity Oversight Board and the California Public Utilities Commission.

Comment Date: 5 p.m. Eastern Time on January 7, 2005.

10. San Diego Gas & Electric Company

[Docket No. ER05-354-000]

Take notice that on December 17, 2004, San Diego Gas & Electric Company (SDG&E) tendered for filing changes to its Transmission Owner Tariff Reliability Services Rates. SDG&E requests an effective date of January 1, 2005 for the proposed rate changes.

SDG&E states that copies of the filing have been served on the California Public Utilities Commission and the California Independent System Operator.

Comment Date: 5 p.m. Eastern Time on January 7, 2005.

11. Horsehead Corp.

[Docket No. ER05-355-000]

Take notice that on December 17, 2004, Horsehead Corp. filed with the Commission a Notice of Succession adopting the Rate Schedule FERC No. 1 of St. Joe Minerals Corporation as superseded, amended, and conformed to the requirements of Order No. 614, Designation of Electric Rate Schedule Sheets, 90 FERC ¶ 61,352 (2000).

Comment Date: 5 p.m. Eastern Time on January 7, 2005.

12. Entergy Services, Inc.

[Docket No. ER05-356-000]

Take notice that on December 17, 2004, Entergy Services, Inc., (Entergy Services) on behalf of Entergy Arkansas, Inc., Entergy Gulf States, Inc., Entergy Louisiana, Inc., Entergy Mississippi, Inc., and Entergy New Orleans, Inc., tendered for filing the Fifth Revised Network Integration Transmission Service Agreement between Entergy Services and East Texas Electric Cooperative, Inc., Sam Rayburn G&T Electric Cooperative, Inc., and Tex-La Electric Cooperative, Inc. Entergy Services requests an effective date of January 1, 2005.

Comment Date: 5 p.m. Eastern Time on January 7, 2005.

13. MidAmerican Energy Company

[Docket No. ER05-357-000]

Take notice that on December 17, 2004, MidAmerican Energy Company (MidAmerican), filed with the Commission an amended Network Integration Transmission Service Agreement between MidAmerican Energy Company and the City of Sergeant Bluff, Iowa (Sergeant Bluff). MidAmerican requests an effective date of January 1, 2005.

MidAmerican states that it has served a copy of the filing on Sergeant Bluff, the Iowa Utilities Board, the Illinois Commerce Commission and the South Dakota Public Utilities Commission.

Comment Date: 5 p.m. Eastern Time on January 7, 2005.

14. PacifiCorp

[Docket No. ER05-358-000]

Take notice that on December 20, 2004, PacifiCorp tendered for filing revisions to its Open Access Transmission Tariff to change PacifiCorp's mailing address applicable to all written notifications to PacifiCorp under the Open Access Transmission Tariff.

PacifiCorp states that copies of this filing were supplied to the Public Utility Commission of Oregon and the Washington Utilities and Transportation Commission. PacifiCorp's further states that the existing transmission customers were notified by e-mail.

Comment Date: 5 p.m. Eastern Time on January 10, 2005.

15. Western Systems Power Pool, Inc.

[Docket No. ER05-359-000]

Take notice that on December 20, 2004, the Western Systems Power Pool, Inc. (WSPP) requested amendment of the WSPP Agreement to include East Texas Electric Cooperative, Inc. (ETEC) as a participant. The WSPP seeks an effective date of January 1, 2005, for ETEC's membership.

WSPP states that copies of this filing will be served upon John H. Butts, Manager of ETEC, and Frederick H. Ritts of Brickfield, Burchette, Ritts & Stone, P.C., counsel to ETEC and copies will be e-mailed to WSPP members who have supplied e-mail addresses for the Contract Committee and Contacts lists.

Comment Date: 5 p.m. Eastern Time on January 10, 2005.

16. Old Dominion Electric Cooperative

[Docket No. ER05-360-000]

Take notice that on December 20, 2004, Old Dominion Electric Cooperative (Old Dominion) filed an application under section 205 of the Federal Power Act and 35.13 of the Commission's Rules and Regulations, for approval of Old Dominion's Application for Acceptance of Changes to Rate Formula That Do Not Provide for a Rate Increase, and Request for Waivers. Old Dominion requests an effective date of January 1, 2004.

Old Dominion states that a copy of the filing was served upon each of the Member Cooperatives and the public service commissions in the Commonwealth of Virginia and the states of Delaware, Maryland and West Virginia.

Comment Date: 5 p.m. Eastern Time on January 10, 2005.

17. New England Power Pool

[Docket No. ER05-361-000]

Take notice that on December 20, 2004, the New England Power Pool (NEPOOL) Participants Committee submitted an amendment to NEPOOL Market Rule 1 to provide for implementation of a test program for a seams reduction initiative involving short-notice intra-hour scheduling of energy transactions between the New England and New York control areas. NEPOOL requests an effective date of January 1, 2005.

The NEPOOL Participants Committee states that copies of these materials were sent to the NEPOOL Participants and the New England state governors and regulatory commissions.

Comment Date: 5 p.m. Eastern Time on January 10, 2005.

18. DTE Energy Marketing, Inc.

[Docket No. ER05-362-000]

Take notice that on December 20, 2004, DTE Energy Marketing, Inc. (DEM) tendered for filing a Notice of Cancellation of its Market Rate Tariff, designated as FERC Electric Rate Schedule No. 1. DEM requests an effective date of December 21, 2004.

Comment Date: 5 p.m. Eastern Time on January 10, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E4-3943 Filed 1-4-05; 8:45 am]

BILLING CODE 6717-01-P